DEPARTMENT OF COMMERCE

International Trade Administration

President's Export Council: Meeting

AGENCY: International Trade Administration, U.S. Department of Commerce.

ACTION: Notice of an open meeting.

SUMMARY: The President's Export Council (PEC) will hold a full Council meeting to discuss topics related to export expansion. The meeting will include discussion of trade priorities and initiatives, the World Trade Organization, PEC subcommittee activity and proposed letters of recommendation. The PEC was established on December 20, 1973, and reconstituted May 4, 1979, to advise the President on matters relating to U.S. trade. It was most recently renewed by Executive Order 13225.

Date: October 1, 2003.

Time: 10 a.m. to 11:30 a.m.

Address: U.S. Capitol, Room SC-5, Washington, DC 20510. This program is physically accessible to people with disabilities. Requests for sign language interpretation or other auxiliary aids should be submitted no later than September 17, 2003, to J. Marc Chittum, President's Export Council, Room 2015, Washington, DC 20230. Seating is limited and will be on a first come, first served basis.

FOR FURTHER INFORMATION CONTACT: J. Marc Chittum, President's Export Council, Room 2015, Washington, DC 20230 (Phone: 202-482-1124).

Dated: September 8, 2003.
J. Marc Chittum,
Staff Director and Executive Secretary, President's Export Council.

[FR Doc. 03-23271 Filed 9-10-03; 8:45 am]

BILLING CODE 3510-DR-M